DEPARTMENT OF TRANSPORTATION

Federal Highway Administration

[Docket No. FHWA-2007-26825]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on November 3rd, 2006. We are required to publish this notice in the Federal Register by the Paperwork Reduction Act of 1995.

DATES: Please submit comments by February 21, 2007.

ADDRESSES: You may send comments within 30 days to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-26825.

FOR FURTHER INFORMATION CONTACT: Kenneth Petty, 202-366-6654, or Jody McCullough, 202-366-2825, Office of Planning, Federal Highway Administration, Department of Transportation, 400 Seventh Street, SW., Washington, DC, 20590. Office hours are from 7:45 a.m. to 4:15 p.m., Monday through Friday, except Federal holidays.

SUPPLEMENTARY INFORMATION: Title: Transportation, Community, and System Preservation Program Grant Application. Transportation Planning Excellence Awards Nomination Form.

Background: Transportation, Community, and System Preservation Program Grant Application: Section 1117 of the Safe, Accountable, Flexible, Efficient Transportation Equity Act: A Legacy for Users (SAFETEA-LU) provides funding for the Transportation, Community, and System Preservation (TCSP) Program. The TCSP Program is a comprehensive initiative of research and grants to investigate the relationships between transportation, community, and system preservation plans and practices and identify sector-based initiatives to improve such relationships. States, metropolitan planning organizations, local governments, and tribal governments are eligible for discretionary grants to carry out eligible projects to integrate transportation, community, and system preservation plans and practices that:

• Improve the efficiency of the transportation system of the United States.

• Reduce environmental impacts of transportation.

• Reduce the need for costly future public infrastructure investments.

• Ensure efficient access to jobs, services, and centers of trade.

• Examine community development patterns and identify strategies to encourage private sector development patterns and investments that support these goals.

The 2-page TCSP grant application is the tool used to collect the necessary information needed to successfully submit eligible TCSP Program projects to the Secretary of Transportation for approval and for the distribution of the funds to the States. The TCSP grant application includes three parts: A) Project Information—General contact and funding information, B) Project Abstract—Overview of the purpose and intent of project, and C) Project Narrative—Description of the project and the expected results.

The TCSP Program is a discretionary program. However, beginning in FY 2000, the projects awarded TCSP Program funding have been designated by Congress. In order to comply with Congressional-designation, the Federal Highway Administration (FHWA) Division offices will continue to be asked to identify the intended recipient of the TCSP designated grant. The specified grant recipient would then be asked to complete the grant application each fiscal year that they receive TCSP funding. The participants will have a choice of providing their information by means of the Internet or a printed application.

Transportation Planning Excellence Awards Nomination Form: The Transportation Planning Excellence Awards (TPEA) program is a biennial awards program developed by the FHWA and the Federal Transit Administration (FTA) to recognize outstanding initiatives across the country to develop, plan, and implement innovative transportation planning practices. The program is co-sponsored by the American Planning Association.

The on-line TPEA nomination form is the tool for submitters to nominate a process, group, or individual involved in a project or process that has used the FHWA and/or the FTA funding sources to make an outstanding contribution to the field of transportation planning. The information about the process, group, or individual provided by the submitter may be shared and published if that submission is selected for an award.

The TPEA is a biennial awards program and individuals will be asked to submit nominations via the online form every two years. The participants will provide their information by means of the Internet.

Respondents: For the TCSP Program, States, metropolitan planning organizations, local governments, and tribal governments may apply in which approximately 100 participants have responded annually. For the TPEA, 150 participants are expected to apply in the first and third year, because it is a biennial program.

Frequency: For the TCSP Program, grant applications are solicited on an annual basis. For the TPEA, nominations are solicited biennially.

Estimated Average Burden per Response: For the TCSP Program, 90 minutes. For the TPEA Program, approximately 60 minutes.

Estimated Total Annual Burden Hours: For the TCSP Program, 150 hours annually. For the TPEA, 150 hours in the first year and 150 hours in the third year.

Electronic Access: Internet users may access all comments received by the U.S. DOT Dockets, Room PL-401, by using the universal resource locator: http://dms.dot.gov, 24 hours each day, 365 days each year. Please follow the instructions online for more information and help.

Authority: The Paperwork Reduction Act of 1995; 44 U.S.C. Chapter 35, as amended; and 49 CFR 1.48.

Issued on: January 16, 2007.
James R. Kabel,
Chief, Management Programs and Analysis, Division.

[FR Doc. E7-831 Filed 1-19-07; 8:45 am]

BILLING CODE 4910-22-P